DEPARTMENT OF LABOR

Employment and Training Administration

Investigations Regarding Eligibility To Apply for Trade Adjustment Assistance

In accordance with the Trade Act of 1974 (19 U.S.C. 2271, et seq.) (“Act”), as amended, the Department of Labor herein presents notice of investigations regarding eligibility to apply for trade adjustment assistance under Chapter 2 of the Act (“TAA”) for workers by (TA-W) started during the period of July 1 2021 through July 31 2021.

This notice includes instituted initial investigations following the receipt of validly filed petitions. Furthermore, if applicable, this notice includes investigations to reconsider negative initial determinations or terminated initial investigations following the receipt of a valid application for reconsideration.

The purpose of each of the investigations is to determine whether the workers are eligible to apply for adjustment assistance under Title II, Chapter 2, of the Act. Any persons showing a substantial interest in the subject matter of the investigations may request a public hearing provided such request is filed in writing with the Administrator, Office of Trade Adjustment Assistance, at the address shown below, no later than ten days after publication in Federal Register.

Initial Investigations

The following are initial investigations commenced following the receipt of a properly filed petition.

TA-W No. | Workers' firm | Location | Investigation start date
97062 | Energizer Manufacturing, Inc | Bennington, VT | 7/1/2021
97063 | Graham Packaging | Kansas City, MO | 7/1/2021
97064 | Never Again Industries LLC | Chesapeake, VA | 7/1/2021
97065 | GE Aviation | Batesville, MS | 7/1/2021
97066 | Allstate Insurance | Largo, FL | 7/1/2021
97067 | Tranter Inc | Wichita Falls, TX | 7/1/2021
97068 | GE Aviation | Arkansas City, KS | 7/1/2021
97069 | Serta Simmons Bedding, LLC | Windsor Locks, CT | 7/1/2021
97070 | Altor Safety | Valley Cottage, NY | 7/1/2021
97071 | Collins Aerospace | Vergennes, VT | 7/1/2021
97072 | Cerner, Innovations Campus | Kansas City, MO | 7/1/2021
97073 | Stanadyne Automotive | Windsor, CT | 7/1/2021
97074 | Lee Aerospace, Inc | Wichita, KS | 7/1/2021
97075 | Swiss Re America Holding Corp | Kansas City, MO | 7/1/2021
97076 | NTT DATA Services, LLC | Plano, TX | 7/1/2021
97077 | Medical Faculty Associates, Inc | Washington, DC | 7/1/2021
97078 | Kimberly-Clark Corporation | Conway, AR | 7/1/2021
97079 | AW Industries | Hyattsville, MD | 7/1/2021
97080 | BCS Automotive Interface Solutions U.S., LLC | Auburn, NY | 7/1/2021
97081 | Hospitality Mints | Boone, NC | 7/1/2021
97082 | AT&T Services, Inc | Chicago, IL | 7/1/2021
97083 | Sunset Moulding Company | Chico, CA | 7/1/2021
97084 | Globe Metallurgical Inc | Niagara Falls, NY | 7/1/2021
97085 | Novelis Corporation | Oswego, NY | 7/1/2021
97086 | Serta Simmons Bedding LLC | Jamestown, NY | 7/1/2021
97087 | Triumph Composites Systems, Inc | Spokane, WA | 7/1/2021
97088 | Kyocera Senco Industrial Tools, Inc | Cincinnati, OH | 7/2/2021
97089 | Spartech, LLC | Greenville, OH | 7/2/2021
97090 | Tekni-Plex Inc | Holland, OH | 7/2/2021
97091 | TimkenSteel Corporation | Canton, OH | 7/2/2021
97092 | Marmon Foodservice Technologies Inc, d.b.a. Silver King | Minneapolis, MN | 7/2/2021
97093 | Medtronic Inc | Columbia Heights, MN | 7/2/2021
97094 | Exostar LLC | Herndon, VA | 7/2/2021
97095 | AMITA Health (Ascension Technologies) | Lisle, IL | 7/2/2021
97096 | Frontier Communications | Deland, FL | 7/2/2021
97097 | Octal Extrusion Corp | Cincinnati, OH | 7/2/2021
97098 | JPMorgan Chase & Co | Jersey City, NJ | 7/2/2021
97099 | Amita Health (Ascension Technologies) | Chicago, IL | 7/2/2021
97100 | Acme Staple Company, Inc | Franklin, NH | 7/2/2021
97101 | EasyPak | Vernon, CA | 7/2/2021
97102 | General Mills, Inc | Golden Valley, MN | 7/2/2021
97103 | Serta Simmons Bedding, LLC | Lenexa, KS | 7/2/2021
97104 | Wyoming Machinery Company | Casper, WY | 7/2/2021
97105 | Aleris Rolled Products, Inc | North Chesterfield, VA | 7/2/2021
97106 | The News Journal | New Castle, DE | 7/2/2021
97107 | Foot Locker Corporate Services Inc | Milwaukee, WI | 7/2/2021
97108 | Gannett Company Inc | Mc Lean, VA | 7/2/2021
97109 | Global Plastics, Inc | Perris, CA | 7/2/2021
97110 | Pactiv LLC | Santa Fe Springs, CA | 7/2/2021
97111 | rePlanet Packaging LLC | Visalia, CA | 7/2/2021
97112 | rPlanet Earth Los Angeles LLC | Vernon, CA | 7/2/2021
97113 | Netzsch Premier Technologies Inc | Exton, PA | 7/2/2021
97114 | American Pacific Plastic Fabricators Inc | Garden Grove, CA | 7/2/2021
97115 | Carpenter Co | Riverside, CA | 7/2/2021
97116 | Peak Oilfield Service Company | Prudhoe Bay, AK | 7/2/2021
97117 | Elite Comfort Solutions, LLC, a subsidiary of Leggett & Platt Incorporated | Ontario, CA | 7/2/2021
97118 | Royal Pedic Mattress Manufacturing, LLC | Wilmington, CA | 7/2/2021
97119 | Tempur Sealy International, Inc | Richmond, CA | 7/2/2021
97120 | Future Foam, Inc | Newton, KS | 7/2/2021
97121 | SSB Manufacturing Company | West Coxsackie, NY | 7/2/2021
97122 | Sierra Pacific Industries | Red Bluff, CA | 7/2/2021
97123 | Yuba River Moulding and Millwork, Inc | Olivehurst, CA | 7/2/2021
98000 | Malteurop North America Inc | Milwaukee, WI | 7/9/2021
98001 | Employees of Olin Corp, Blue Cube Operations | Freeport, TX | 7/12/2021
98002 | Emerson Automation Solutions Final Control US LP | Black Mountain, NC | 7/14/2021
98003 | Malteurop North America, Inc | Milwaukee, WI | 7/15/2021
98004 | The Miller Company | Meriden, CT | 7/15/2021
98005 | Stant USA Corporation | Pine Bluff, AR | 7/15/2021
98006 | American International Group—AIG Technologies | Fort Worth, TX | 7/19/2021
98007 | Cubic Trafficware | Sugar Land, TX | 7/19/2021
98008 | Fieldwood Energy LLC | Houston, TX | 7/19/2021
98009 | Core Composites Cincinnati, LLC | Batavia, OH | 7/20/2021
98010 | Miken Sports | Caledonia, MN | 7/20/2021
98011 | Terumo BCT, Inc | Lakewood, CO | 7/21/2021
98012 | Western Union | Denver, CO | 7/22/2021
98013 | Customer Engagement Services, LLC (CES) | Phoenix, AZ | 7/23/2021
98014 | The Mosaic Company (Uncle Sam Plant) | Uncle Sam, LA | 7/23/2021
98015 | Ensono | Conway, AR | 7/26/2021
98016 | Web Industries, Inc | Middlesex, VT | 7/26/2021
98017 | FujiFilm Manufacturing USA, Inc | Greenwood, SC | 7/27/2021
98018 | Prismview, LLC—A Samsung Electronics Company | Logan, UT | 7/28/2021
98019 | Betsy & Adam/Xscape Evenings | New York, NY | 7/28/2021
98020 | GSI | Omaha, NE | 7/29/2021

A record of these investigations and petitions filed are available, subject to redaction, on the Department's website https://www.dol.gov/agencies/eta/tradeact under the searchable listing or by calling the Office of Trade Adjustment Assistance toll free at 888-365-6822.

Signed at Washington, DC, this 10th day of August 2021.
Hope D. Kinglock,
Certifying Officer, Office of Trade Adjustment Assistance.

[FR Doc. 2021-17767 Filed 8-18-21; 8:45 am]

BILLING CODE 4510-FN-P